DEPARTMENT OF ENERGY

Federal Energy Regulatory Commission

[Docket No. IC13-15-000]

Commission Information Collection Activities (Ferc-582); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-582 (Electric Fees, Annual Charges, Waivers, and Exemptions) to the Office of Management and Budget (OMB) for review of the information collection requirements. Any interested person may file comments directly with OMB and should address a copy of those comments to the Commission as explained below. The Commission issued a Notice in the Federal Register (78 FR 47310, 8/5/2013) requesting public comments. FERC received no comments on the FERC-582 and is making this notation in its submittal to OMB.

Note: Commission staff is issuing this notice to highlight a change in the estimated total annual burden from what was shown in two recent notices. In each prior notice,¹ FERC estimated the total annual burden at 114 hours. FERC has revised the estimation of the total annual burden to 300 hours, which better reflects past burden estimates for this collection. More specifically, portions of the total annual burden were increased from 1 hour per response to 3 hours per response (Annual Charges) and 2 hours per response (Declaratory Order), consistent with estimates for this collection since the last time it was approved by OMB. The total number of respondents remained static. Further detail regarding the total annual burden is provided below in the “Estimate of Annual Burden” section of this notice.

¹ 78 FR 30912, 5/23/2013; and 78 FR 47310, 8/5/2013.

DATES: Comments on the collection of information are due by September 20, 2013.

ADDRESSES: Comments filed with OMB, identified by the OMB Control No. 1902-0132, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-15-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Electric Fees, Annual Charges, Waivers, and Exemptions.

OMB Control No.: 1902-0132.

Type of Request: Three-year extension of the FERC-582 information collection requirements with no changes to the reporting requirements.

Abstract: The information required by FERC-582 is contained within 18 Code of Federal Regulations (CFR) part 381 ² and part 382.³

² Title 18 CFR, Sections 381.105, 381.106, 381.108, 381.302, and 381.305.

³ Title 18 CFR, Sections 382.102, 382.103, 382.105, 382.106, and 382.201.

The Commission uses the FERC-582 to implement the statutory provisions of the Independent Offices Appropriation Act of 1952 (IOAA) ⁴ which authorizes the Commission to establish fees for its services. In addition, the Omnibus Budget Reconciliation Act of 1986 (OBRA) ⁵ authorizes the Commission to assess and collect fees and annual charges in any fiscal year in amounts equal to all the costs incurred by the Commission in that fiscal year.

⁴ 31 U.S.C. 9701.

⁵ 42 U.S.C. 7178.

To comply with the FERC-582, respondents submit to the Commission the sum of the megawatt-hours (MWh) of all unbundled transmission (including MWh delivered in wheeling transactions and MWh delivered in exchange transactions) and the megawatt-hours of all bundled wholesale power sales (to the extent the bundled wholesale power sales were not separately reported as unbundled transmission). The data collected within the FERC-582 is drawn directly from the FERC Form 1 transmission data. The Commission sums the costs of its electric regulatory program and subtracts all electric regulatory program filing fee collections to determine the total collectible electric regulatory program costs. Then, the Commission uses the data submitted under FERC-582 to determine the total megawatt-hours of transmission of electric energy in interstate commerce.

Respondents (public utilities, power marketers) subject to these annual charges must submit FERC-582 data to the Commission by April 30 of each year.⁶ The Commission issues bills for annual charges to respondents. Then, respondents must pay the charges within 45 days of the Commission's issuance of the bill.

⁶ 18 CFR 382.201.

Respondents may file requests for waivers and exemptions of fees and charges ⁷ based on need. The Commission's staff uses the filer's financial information to evaluate the request for a waiver or exemption of the obligation to pay a fee or an annual charge.

⁷ 18 CFR 381 and 382.

Respondents may also file petitions for declaratory orders and requests for OGC interpretations.

Type of Respondents: Public utilities and power marketers.

Estimate of Annual Burden: ⁸ The Commission revises its estimate of the total Public Reporting Burden for this information collection as: ⁹

⁸ Burden is defined as the total time, effort, or financial resources expended by persons to generate, maintain, retain, or disclose or provide information to or for a Federal agency. For further explanation of what is included in the information collection burden, reference 5 Code of Federal Regulations 1320.3.

⁹ See “Summary” section above for more information about the revision to the burden estimates as compared to recent notices.

FERC-582: Electric Fees; Annual Charges; Waivers; and Exemptions
FERC-582 ¹⁰ | Number of respondents | Number of responses per respondent | Total number of responses | Average burden hours per response | Estimated total annual burden
| (A) | (B) | (A)x(B)=(C) | (D) | (C)x(D)
Annual Charges | 73 | 1 | 73 | 3 | 219
Declaratory Order | 40 | 1 | 40 | 2 | 80
OGC Interpretation | 1 | 1 | 1 | 1 | 1
TOTAL | 114 |  | 114 |  | 300

The total estimated annual cost burden to respondents is $21,000 [300 hours * $70 per hour ¹¹ = $21,000]

¹⁰ Includes requirements of:

• 18 CFR 381.105 (methods of payment), 381.106 (waiver), 381.108 (exemption), 381.302 (declaratory order), 381.303 (review of DOE remedial order), 381.304 (DOE denial of adjustment, and 381.305 (OGC interpretation).

• 18 CFR 382.102, 382.103, 382.105, 382.106, 382.106 (annual charges).

Parts not shown in the table are not shown because we don't expect to see any of these filings in the next three years.

¹¹ This is a loaded cost (wages plus benefits) for a full-time employee.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 23, 2013.
Kimberly D. Bose,
Secretary.

[FR Doc. 2013-21200 Filed 8-29-13; 8:45 am]

BILLING CODE 6717-01-P